DEPARTMENT OF LABOR

Employment and Training Administration

[TA-W-41,783]

Oxford Industries, Inc. Women's Wear New York, NY; Notice of Termination of Investigation

Pursuant to Section 221 of the Trade Act of 1974, an investigation was initiated on July 8, 2002 in response to a worker petition which was filed on behalf of workers at Oxford Industries, Inc., Women's Wear, New York, New York.

The petitioning group of workers are subject to an investigation for which a certification has been issued (TA-W-39,764A). Consequently, further investigation in this case would serve no purpose, and the investigation has been terminated.

Signed in Washington, DC this 30th day of August, 2002.
Linda G. Poole,
Certifying Officer, Division of Trade Adjustment Assistance.

[FR Doc. 02-22974 Filed 9-9-02; 8:45 am]

BILLING CODE 4510-30-P